CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning the proposed revision of its VISTA Concept Paper, Application, and Budget Instructions (OMB Control Number 3045-0048) which will expire on September 30, 2015.

This revision reflects CNCS's intent to modify the application for inclusion of a new section to collect performance measure data required by the Edward M. Kennedy Serve America Act and recently approved by the Office of Management and Budget.

DATES: Written comments must be submitted to the office listed in the ADDRESSES section by May 7, 2013.

ADDRESSES: You may submit comments, identified by the title of the information collection activity, by any of the following methods:

(1) By mail sent to: Corporation for National and Community Service, Attn. Kelly Daly, Program Development Specialist, 1201 New York Avenue NW., Washington, DC 20525.

(2) By hand delivery or by courier to CNCS's reception desk on the 10th floor at the mailing address given in paragraph (1) above, between 9 a.m. and 4 p.m. Monday through Friday except Federal holidays.

(3) By fax to: (202) 606-3475, Attn. Kelly Daly, Program Development Specialist.

(4) Electronically through CNCS's email address system: vista@americorps.gov.

(5) Electronically through www.regulations.gov.

(6) Individuals who use a telecommunications device for the deaf (TTY-TDD) may call (202) 606-3472 between 8:30 a.m. and 5:00 p.m. Eastern Time, Monday through Friday.

FOR FURTHER INFORMATION CONTACT: Kelly Daly (202-606-6849) or by email at vista@americorps.gov.

SUPPLEMENTARY INFORMATION: CNCS is particularly interested in comments which:

• Evaluate whether the proposed collection of information is necessary for the proper performance of the functions of CNCS, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology (e.g., permitting electronic submissions of responses).

Background

The VISTA Concept Paper, Application, and Budget Instructions are designed to assure that potential AmeriCorps VISTA sponsors provide the information needed to determine their suitability for approval.

Current Action

CNCS seeks to revise the current forms used by potential and current AmeriCorps VISTA sponsors to both apply for and report on the use of AmeriCorps VISTA resources. The information collection will otherwise be used in the same manner as the existing application package. CNCS also seeks to continue using the current application package until the revised application is approved by OMB. The current application package is due to expire on September 30, 2015.

Type of Review: Revision.

Instrument: Concept Paper, Application, Budget Instructions.

Total Respondents: 900.

Frequency: One time for the Concept Paper and annually for the Application and Budget Instructions.

Average Time per Response: 15 hours.

Estimated Total Burden Hours: 13,500 hours.

Total Burden Cost (capital/startup): None.

Total Burden Cost (operating/maintenance): None.

Comments submitted in response to this notice will be summarized and/or included in the request for Office of Management and Budget approval of the information collection request; they will also become a matter of public record.

Dated: March 4, 2013.
Mary Strasser,
Director, AmeriCorps VISTA.

[FR Doc. 2013-05450 Filed 3-7-13; 8:45 am]

BILLING CODE 6050-$$-P